SOCIAL SECURITY ADMINISTRATION

[Docket No: SSA-2017-0019]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov. Or you may submit your comments online through www.regulations.gov, referencing Docket ID Number [SSA-2017-0019].

I. The information collections below are pending at SSA. SSA will submit them to OMB within 60 days from the date of this notice. To be sure we consider your comments, we must receive them no later than June 19, 2017. Individuals can obtain copies of the collection instruments by writing to the above email address.

1. Promoting Opportunity Demonstration—0960-NEW. Section 823 of the Bipartisan Budget Act of 2015 requires SSA to carry out the Promoting Opportunity Demonstration (POD) to test a new benefit offset formula for Social Security Disability Insurance (SSDI) beneficiaries. Therefore, SSA is undertaking POD, a demonstration to evaluate the affect the new policy will have on SSDI beneficiaries and their families in several critical areas: (1) Employment, (2) benefits, (3) earnings, and (4) income (earnings plus benefits). Under current law, Social Security beneficiaries lose their SSDI benefit if they have earnings or work activity above the threshold of Substantial Gainful Activity (SGA). The POD evaluation will draw on previous lessons from related work incentive experiences, especially SSA's Benefit Offset National Demonstration (BOND), 0960-0785, which tested a different offset formula. POD tests a different policy than BOND in two important ways: (1) A lower threshold at which point the offset is applied—increasing the likelihood of reducing benefit expenditures relative to current law expenditures; and (2) A more immediate adjustment to the benefits—to increase the salience and clarity of the offset policy for beneficiaries. The POD will test a benefit offset that will reduce benefits by $1 for every $2 in participants' earnings above the POD threshold, gradually reducing benefits as earnings increase. The POD threshold will equal the greater of (1) an inflation-adjusted trial work period level ($840 in 2017); or (2) the amount of the participant's itemized impairment-related work expenses up to SGA. The new rules we will test in POD also simplify work incentives and we intend them to promote employment and reduce dependency on benefits.

The design for POD will include implementation and evaluation activities designed to answer seven central research questions:

• What are the impacts of the two POD benefit designs on beneficiaries' earnings, SSDI benefits, and total earnings and benefit income?

• Is POD attractive to beneficiaries? Do they remain engaged over time?

• How were the POD offset policies implemented, and what operational, systemic, or contextual factors facilitated or posed challenges to administering the offset?

• How successful were POD and SSA in making timely benefit adjustments, and what factors affected timeliness positively or negatively?

• How do the impacts of the POD offset policies vary with beneficiary characteristics?

• What are the costs and benefits of the POD benefit designs relative to current law, and what are the implications for the SSDI trust fund?

• What are the implications of the POD findings for national policy proposals that would include a SSDI benefit offset?

The public survey data collections have four components—a process analysis, a participation analysis, an impact analysis, and a cost-benefit analysis. The data collections are the primary source for data to measure the effects the benefit offset on SSDI beneficiaries' work efforts and earnings. Ultimately, these data will benefit researchers, policy analysts, policy makers, SSA, and the state vocational rehabilitation agencies in a wide range of program areas. There are four targeted outcomes for SSDI beneficiaries under POD: (1) Increased employment and earnings; (2) decreased benefits payments; (3) increased total income; and (4) impacts on other related outcomes (for example, health status and quality of life).

Additionally, four outcomes of interest for system changes include: (1) Reduction in overpayments; (2) enhanced program integrity; (3) stronger culture of self-sufficiency; and (4) improved SSDI trust fund balance. Respondents are SSDI beneficiaries, who will provide written consent before agreeing to participate in the study and before we randomly assign them to one of the study treatment groups.

Type of Request: Request for a new information collection.

Modality of completion | Number of respondents | Frequency of response | Number of responses | Average burden per response (minutes) | Estimated total annual burden (hours)
Informed Consent Form | 16,500 | 1 | 16,500 | 15 | 4,125
Baseline Survey | 16,500 | 1 | 16,500 | 20 | 5,500
12-Month Follow Up Survey | 6,000 | 1 | 6,000 | 30 | 3,000
24-Month Follow Up Survey | 12,000 | 1 | 12,000 | 30 | 6,000
Interviews with Site Staff | 40 | 4 | 160 | 66 | 176
Onsite Audit of Sample of Case Files | 8 | 2 | 16 | 20 | 5
Semi-Structured Interviews with Treatment Group Subjects | 144 | 1 | 144 | 60 | 144
Monthly Earnings and Impairment-Related Expenses Reporting Form (paper) | 1,820 | 12 | 21,840 | 10 | 3,640
Monthly Earnings and Impairment-Related Expenses Reporting Form (Internet) | 780 | 12 | 9,360 | 5 | 780
End of Year Reporting Form (paper) | 945 | 1 | 945 | 15 | 236
End of Year Reporting Form (Internet) | 405 | 1 | 405 | 10 | 68
Totals | 55,142 |  | 83,870 |  | 23,674

2. Statement Regarding Contributions—20 CFR 404.360-404.366 and 404.736—0960-0020. SSA uses the SSA-783 to collect information regarding a child's current sources of support when determining the child's entitlement to Social Security benefits. We request this information from adults acting on behalf of the child claimants who can provide SSA with any sources of support or substantial contributions for the child. These adults inform the claims representative of these sources as part of the initial benefits process. If the individual capable of providing the information does not accompany the child claimant, we mail the SSA-783 to the individual for completion; or if the person has access to a computer, we will refer them to SSA's Web site. The respondents are individuals providing information about a child's sources of support.

Type of Request: Revision of an OMB-approved information collection.

Modality of completion | Number of respondents | Frequency of response | Average burden per response (minutes) | Estimated total annual burden (hours)
SSA-783 | 30,000 | 1 | 17 | 8,500

3. Disability Report—Appeal—20 CFR 404.1512, 416.912, 404.916(c), 416.1416(c), 422.140, 404.1713, 416.1513, 404.1740(b)(4), 416.1540(b)(4), and 405 Subpart C—0960-0144. SSA requires disability applicants who wish to appeal an unfavorable disability determination to complete Form SSA-3441-BK; the associated Electronic Disability Collect System (EDCS) interview; or the Internet application, i3441. This allows claimants to disclose any changes to their disability, or resources, which might influence SSA's unfavorable determination. We may use the information to: (1) Reconsider and review an initial disability determination; (2) review a continuing disability; and (3) evaluate a request for a hearing. This information assists the State Disability Determination Services (DDS) and administrative law judges (ALJ) in preparing for the appeals and hearings, and in issuing a determination or decision on an individual's entitlement (initial or continuing) to disability benefits. In addition, the information we collect on the SSA-3441-BK, or related modalities, facilitates SSA's collection of medical information to support the applicant's request for reconsideration; request for benefits cessation appeal; and request for a hearing before an ALJ. Respondents are individuals who appeal denial, reduction, or cessation of Social Security disability benefits and Supplemental Security Income (SSI) payments; individuals who wish to request a hearing before an ALJ; or their representatives.

Type of Request: Revision of an OMB-approved information collection.

Modality of completion | Number of respondents | Frequency of response | Average burden per response (minutes) | Estimated total annual burden (hours)
SSA-3441-BK | 2,396 | 1 | 45 | 1,797
Electronic Disability Collect System (EDCS) | 476,771 | 1 | 45 | 357,578
i3441 (Internet) | 1,046,938 | 1 | 28 | 488,571
Totals | 1,526,105 |  |  | 847,946

4. Authorization to Disclose Information to SSA—20 CFR 404.1512 and 416.912, 45 CFR 160 and 164—0960-0623. Sections 223(d)(5)(A) and 1614(a)(3)(H)(i) of the Social Security Act require claimants to provide medical and other evidence the Commissioner of Social Security may require to prove they are disabled. SSA must obtain sufficient evidence to make eligibility determinations for Title II and Title XVI payments. Therefore, the applicant must authorize release of information from various sources to SSA. The applicants use Form SSA-827, or the Internet counterpart, i827, to provide consent for the release of medical records, education records, and other information related to their ability to perform tasks. Once the applicant completes Form SSA-827, or the i827, SSA or the State DDS sends the form to the designated source(s) to obtain pertinent records. The respondents are applicants for Title II and Title XVI disability payments.

Type of Request: Revision of an OMB-approved information collection.

Modality of completion | Number of respondents | Frequency of response | Average burden per response (minutes) | Estimated total annual burden (hours)
i827 with electronic signature (eAuthorization) | 4,189,270 | 1 | 9 | 628,391
SSA-827 with wet signature (paper version) | 1,055,807 | 1 | 10 | 175,968
Totals | 5,245,077 |  |  | 804,359

II. SSA submitted the information collections below to OMB for clearance. Your comments regarding these information collections would be most useful if OMB and SSA receive them 30 days from the date of this publication. To be sure we consider your comments, we must receive them no later than May 18, 2017. Individuals can obtain copies of the OMB clearance packages by writing to OR.Reports.Clearance@ssa.gov.

1. Supported Employment Demonstration (SED)—0960-NEW. Sponsored by SSA, the SED builds on the success of the intervention designed for the Mental Health Treatment Study (MHTS) previously funded by SSA. The MHTS provides integrated mental health and vocational services to disability beneficiaries with mental illness. The SED will offer these same services to individuals with mental illness to whom SSA denied Social Security disability benefits. SSA seeks to determine whether offering this evidence-based package of integrated vocational and mental health services to denied disability applicants fosters employment that leads to self-sufficiency, improved mental health and quality of life, and reduced demand for disability benefits. The SED will use a randomized controlled trial to compare the outcomes of two treatment groups and a control group. Study participation spans 36 months beginning on the day following the date of randomization to one of the three study groups. The SED study population consists of individuals aged 18 to 50 who apply for disability benefits alleging a mental illness and the initial decision is a denial of benefits in the past 60 days. The SED will enroll up to 1,000 participants in each of the three study arms for a total of 3,000 participants: 40 participants in each of three study arms for the 20 urban sites equaling an n of 2,400 urban site participants, and 20 participants in each of three arms for the 10 rural sites equaling an n of 600 rural site participants. We randomly select and assign each enrolled participant to one of three study arms:

• Full-Service Treatment (n=1,000). The multi-component service model from the MHTS comprises the Full-Service Treatment. At its core are an Individual Placement and Support (IPS) supported employment specialist and behavioral health specialist providing IPS supported employment services integrated with behavioral health care. Participants in the full-service treatment group will also receive the services of a Nurse Care Coordinator who coordinates Systematic Medication Management services, as well assistance with: Out-of-pocket expenses associated with prescription behavioral health medications; work-related expenses; and services and treatment not covered by the participant's health insurance.

• Basic-Service Treatment (n=1,000). The Basic-Service Treatment model leaves intact IPS supported employment integrated with behavioral health services as the centerpiece of the intervention arm. The Basic-Service Treatment is essentially the Full-Service model without the services of the Nurse Care Coordinator, Systematic Medication Management, and the funds associated with out-of-pocket expenses for prescription behavioral health medications.

• Usual Services (n=1,000). This study arm represents a control group against which the two treatment groups we can compare. Participants assigned to this group seek services as they normally would (or would not) in their community. However, at the time of randomization, each Usual Service participant will receive a comprehensive manual describing mental health and vocational services in their locale, along with state and national resources.

This study will test the two treatment conditions against each other and against the control group on multiple outcomes of policy interest to SSA. The key outcomes of interest include: (1) Employment; (2) earnings; (3) income; (4) mental status; (5) quality of life; (6) health services utilization; and (7) SSA disability benefit receipt and amount. SSA is also interested in the study take up rate (participation), knowing who enrolls (and who does not), and fidelity to evidence-based treatments, among other aspects of implementation. Data collection for the evaluation of the SED will consist of the following activities: Baseline in-person participant interviews; quarterly participant telephone interviews; receipt of SSA administrative record data; and collection of site-level program data. Evaluation team members will also conduct site visits involving: (1) Pre-visit environmental scans in order to understand the local context in which SED services are embedded; (2) independent fidelity assessments in conjunction with those carried out by state Mental Health/Vocational Rehabilitation staff; (3) key informant interviews with the IPS specialist, the nurse care coordinator, the case manager, and facility director; (4) focus groups with participants in the Full-Service and Basic-Service Treatment groups; and (5) ethnographic data collection consisting of observations in the natural environment and person-centered interviews with participants and non-participants. The respondents are study participants and non-participants, family members, IPS specialists, nurse care coordinators, case managers, and facility directors.

Type of Request: Request for a new information collection.

Modality of completion | Number of respondents | Frequency of response | Number of responses | Average burden per response (minutes) | Estimated total annual burden (hours)
Competency and CIDI Screener | 3,000 | 1 | 3,000 | 40 | 2,000
Baseline Interview | 3,000 | 1 | 3,000 | 45 | 2,250
Quarterly Interview (Quarters 1, 2, 3, 5, 6, 7, 9, 10, and 11) | 3,000 | 9 | 27,000 | 20 | 9,000
Annual Interview (Quarters 4, 8, and 11) | 3,000 | 3 | 9,000 | 30 | 4,500
Fidelity Assessment Participant Interview | 180 | 4 | 720 | 60 | 720
Fidelity Assessment Family Member Interview | 90 | 4 | 360 | 60 | 360
Key Informant Interview | 120 | 4 | 480 | 60 | 480
Participant Focus Groups | 600 | 2 | 1,200 | 60 | 1,200
Person-Centered Interview | 180 | 4 | 720 | 60 | 720
Totals | 13,170 |  | 45,480 |  | 21,230

2. Student Reporting Form—20 CFR 404.352(b)(2); 404.367; 404.368; 404.415; 404.434; 422.135—0960-0088. To qualify for Social Security Title II student benefits, student beneficiaries must be in full-time attendance status at an educational institution. In addition, SSA requires these beneficiaries to report events that may cause a reduction, termination, or suspension of their benefits. SSA collects such information on Forms SSA-1383 and SSA-1383-FC to determine if the changes or events the student beneficiaries report will affect their continuing entitlement to SSA benefits. SSA also uses the SSA-1383 and SSA-1383-FC to calculate the correct benefit amounts for student beneficiaries. The respondents are Social Security Title II student beneficiaries.

Type of Request: Revision of an OMB-approved information collection.

Modality of completion | Number of respondents | Frequency of response | Average burden per response (minutes) | Estimated total annual burden (hours)
SSA-1383 | 74,887 | 1 | 6 | 7,489
SSA-1383-FC | 1,247 | 1 | 6 | 125
Totals | 76,134 |  |  | 7,614

3. Advanced Notice of Termination of Child's Benefits & Student's Statement Regarding School Attendance—20 CFR 404.350-404.352, 404.367-404.368—0960-0105. SSA collects information on Forms SSA-1372-BK and SSA-1372-BK-FC to determine whether children of an insured worked meet the eligibility requirements for student benefits. The data we collect allows SSA to determine student entitlement and whether to terminate benefits. The respondents are student claimants for Social Security benefits, their respective schools and, in some cases, their representative payees.

Type of Request: Revision of an OMB-approved information collection.

SSA-1372-BK:

Type of respondent | Number of respondents | Frequency of response | Average burden per response (minutes) | Estimated total annual burden (hours)
Individuals/Households | 99,850 | 1 | 8 | 13,313
State/Local/Tribal Government | 99,850 | 1 | 3 | 4,993
Totals | 199,700 |  |  | 18,306

SSA-1372-BK:

Type of respondent | Number of respondents | Frequency of response | Average burden per response (minutes) | Estimated total annual burden (hours)
Individuals/Households | 1,198 | 1 | 8 | 160
State/Local/Tribal Government | 1,198 | 1 | 3 | 60
Totals | 2,396 |  |  | 220
Grand Total | 200,096 |  |  | 18,526

4. Request for Review of Hearing Decision/Order—20 CFR 404.967-404.981, 416.1467-416.1481—0960-0277. Claimants have a statutory right under the Social Security Act and current regulations to request review of an ALJ's hearing decision or dismissal of a hearing request on Title II and Title XVI claims. Claimants may request Appeals Council review by filing a written request using Form HA-520. SSA uses the information to establish the claimant filed the request for review within the prescribed time and to ensure the claimant completed the requisite steps permitting the Appeals Council review. The Appeals Council uses the information to: (1) Document the claimant's reason(s) for disagreeing with the ALJ's decision or dismissal; (2) determine whether the claimant has additional evidence to submit; and (3) determine whether the claimant has a representative or wants to appoint one. The respondents are claimants requesting review of an ALJ's decision or dismissal of hearing.

Type of Request: Revision of an OMB-approved information collection.

Modality of completion | Number of respondents | Frequency of response | Average burden per response (minutes) | Estimated total annual burden (hours)
HA-520 | 175,000 | 1 | 10 | 29,167

5. Disability Update Report—20 CFR 404.1589-404.1595 and 416.988-416.996—0960-0511. As part of our statutory requirements, SSA periodically uses Form SSA-455, the Disability Update Report, to evaluate current Title II disability beneficiaries' and Title XVI disability payment recipients' continued eligibility for Social Security disability payments. Specifically, SSA uses the form to determine if: (1) There is enough evidence to warrant referring the respondent for a full medical Continuing Disability Review (CDR); (2) the respondent's impairments are still present and indicative of no medical improvement, precluding the need for a CDR; or (3) the respondent has unresolved work-related issues. SSA mails Form SSA-455 to specific disability recipients, whom we select as possibly qualifying for the CDR process. SSA pre-fills the form with data specific to the disability recipient, except for the sections we ask the recipients to complete. When SSA receives the completed form, we scan it into SSA's system. This allows us to gather the information electronically, and enables SSA to process the returned forms through automated decision logic to decide the proper course of action to take. The respondents are recipients of Title II and Title XVI Social Security disability payments.

Type of Request: Revision of an OMB-approved information collection.

Modality of completion | Number of respondents | Frequency of response | Average burden per response (minutes) | Estimated total annual burden (hours)
SSA-455 | 1,500,000 | 1 | 15 | 375,000

Dated: April 13, 2017.
Naomi R. Sipple,
Reports Clearance Officer, Social Security Administration.

[FR Doc. 2017-07796 Filed 4-17-17; 8:45 am]

BILLING CODE 4191-02-P